DEPARTMENT OF TRANSPORTATION

Federal Railroad Administration

Petition for Waiver of Compliance

In accordance with Part 211 of Title 49, Code of Federal Regulations (CFR), notice is hereby given that the Federal Railroad Administration (FRA) has received a request for waiver of compliance with certain requirements of the Federal railroad safety regulations. The individual petition is described below, including the party seeking relief, the regulatory and statutory provisions involved, the nature of the relief being sought and the petitioner's arguments in favor of relief.

CSX Transportation

Docket No. FRA-2000-7783

The CSX Transportation (CSXT) seeks a waiver of compliance from certain provisions of 49 CFR Part 213, the Federal Track Safety Standards. Specifically, the petitioner seeks relief from the requirements of section 213.345 (vehicle qualification testing) and sections 213.57 and 213.329 (curves, elevation and speed limitations for track classes 1 through 5 and 6 through 9, respectively) in order to conduct a one-time only series of tests and demonstrations of the RTL-III turbine-powered trainset.

The tests and demonstrations would last approximately two days and would be conducted at speeds up to 125 miles per hour and six inches of cant deficiency between Albany/Rensselaer (CP 142) and Stuyvesant (CP-124) on the Hudson Line in New York State. The petitioner does not seek to qualify the trainset for 125 mph revenue service at this time. CSXT owns the track over which the runs will operate. The National Railroad Passenger Corporation (Amtrak) is responsible for the track maintenance over this segment and CSXT maintains the signal system.

In its petition, CSXT advises that the RTL-III trainset is an upgraded version of the RTL-II trainset which was previously tested in 1995 under waivers H-94-3 and H-94-4 at 125 mph in the same limits as proposed in this waiver petition. After the tests and demonstrations were completed in 1995, the waivers expired. The RTL has operated in revenue service for several years at speeds up to 110 mph on the Hudson Line.

The trainset, designated RTL-III, like the RTL-II, is designed to operate at a maximum speed of 125 mph. The truck suspension is identical to that of the RTL-II and the vehicle weights are within five percent of the RTL-II weights.

Since 1995 and 1996 when the RTL-II was tested at speeds up to 125 mph and six inches of cant deficiency, FRA issued a final rule for the revision of the Federal Track Safety Standards (see 63 FR 3399, June 22, 1998). The new standards now contain requirements (Subpart G) for track classes 6 through 9 for speeds between 90 mph and 200 mph. Section 213.345(a) requires that equipment that operates in track classes 6 through 9 be qualified over the route using the safety limits for wheel/rail forces and accelerations specified in paragraph (b) under the procedures specified in paragraphs (c) through (f). In its petition, CSXT states that, in view of the limited number or runs and the previously demonstrated satisfactory performance of the RTL-II at 125 mph and six inches of cant deficiency, it is requesting relief from the requirements in Section 213.345.

CSXT is also requesting relief from the requirements of Sections 213.57 and 213.329. Specifically, the sections limit the roll angle and percent unloading of equipment which operates at higher cant deficiencies. The term cant deficiency refers to the theoretical amount of superelevation that would have to be added to the existing superelevation in order for the forces to be balanced (same on both rails) as the train negotiates a curve. In practice, trains seldom operate at a balanced speed for the given curvature and superelevation. CSXT points out in its petition that the RTL-II has been successfully tested at curving speed producing more than 6 inches of cant deficiency and the wheel unloading was well within established limits.

CSXT states that the new track safety standards limit the roll angle when the coaches are placed on an elevated track corresponding to the amount of cant deficiency to 5.7 degrees. The standards also limit the roll angle to 8.6 degrees when the vehicle is placed on seven inches of superelevation. The measurements for the RTL coaches are 7.5 degrees and 8.8 degrees, respectively. The roll angle between the floor of a passenger-carrying vehicle's floor and the horizontal results in a limitation on the amount of “g's” felt by passengers in a lateral direction. However, considering the long operating history, CSXT and Amtrak believe the equipment will be acceptable for the testing and demonstration runs requested in this petition.

The CSXT petition contained a test plan prepared by Amtrak which addresses a number of safety-related items which were included in the testing back in 1995 and 1996. Each public or private highway/grade crossing not equipped with active warning devices and where the test speeds will be more than 10 mph greater than the maximum timetable speed would be flagged or barricaded.

Interested parties are invited to participate in these proceedings by submitting written views, data, or comments. FRA does not anticipate scheduling a public hearing in connection with these proceedings since the facts do not appear to warrant a hearing, if any interested party desires an opportunity for oral comment, they should notify FRA, in writing, before the end of the comment period and specify the basis for their request. All communications concerning these proceedings should identify the appropriate docket number (e.g., Waiver Petition Docket Number 2000-7783) and must be submitted to the Docket Clerk, DOT Docket Management Facility, Room PL-401 (Plaza Level), 400 7th Street, SW, Washington, DC 20590.

Communications received within 30 days of the date of this notice will be considered by ERA before final action is taken. Comments received after that date will be considered as far as practicable. All written communications concerning these proceedings are available for examination during regular business hours (9:00 a.m.-5:00 p.m.) at the above facility. All documents in the public docket are also available for inspection and copying on the Internet at the docket facility's web site at http//dms.dot.gov.

Issued in Washington, DC, on August 16, 2000.
Grady C. Cothen, Jr.,
Deputy Associate Administrator for Safety Standards and Program Development.

[FR Doc. 00-21348 Filed 8-21-00; 8:45 am]

BILLING CODE 4910-06-P